DEPARTMENT OF ENERGY

Federal Energy Regulatory Commission

Combined Notice of Filings #1

Take notice that the Commission received the following electric corporate filings:

Docket Numbers: EC21-53-000.

Applicants: Big Sky Wind, LLC, Vitol Wind I LLC, Vitol Holding B.V.

Description: Application for Authorization Under Section 203 of the Federal Power Act of Big Sky Wind, LLC, et al.

Filed Date: 2/12/21.

Accession Number: 20210212-5280.

Comments Due: 5 p.m. ET 3/5/21.

Take notice that the Commission received the following exempt wholesale generator filings:

Docket Numbers: EG21-89-000.

Applicants: Chisholm Grid, LLC.

Description: Notice of Self-Certification of Exempt Wholesale Generation Status of Chisholm Grid, LLC.

Filed Date: 2/12/21.

Accession Number: 20210212-5260.

Comments Due: 5 p.m. ET 3/5/21.

Take notice that the Commission received the following electric rate filings:

Docket Numbers: ER10-2566-013; ER13-2322-009; ER15-190-017; ER18-1343-009; ER19-1819-004; ER19-1820-004; ER19-1821-004.

Applicants: Duke Energy Carolinas, LLC, Broad River Solar, LLC, Carolina Solar Power, LLC, Speedway Solar NC, LLC, Stony Knoll Solar, LLC, Duke Energy Progress, LLC, Duke Energy Renewable Services, LLC.

Description: Notice of Change in Status of the Duke MBR Sellers under ER10-2566, et al.

Filed Date: 2/11/21.

Accession Number: 20210211-5194.

Comments Due: 5 p.m. ET 3/4/21.

Docket Numbers: ER19-2722-003.

Applicants: PJM Interconnection, L.L.C.

Description: Compliance filing: Second Fast-Start Compliance Docket No. EL18-34 to be effective 12/31/9998.

Filed Date: 2/16/21.

Accession Number: 20210216-5218.

Comments Due: 5 p.m. ET 3/9/21.

Docket Numbers: ER20-1085-001.

Applicants: Virginia Electric and Power Company, PJM Interconnection, L.L.C.

Description: Compliance filing: Dominion submits Deficiency Filing in ER20-1085-000 to be effective 1/27/2020.

Filed Date: 2/16/21.

Accession Number: 20210216-5244.

Comments Due: 5 p.m. ET 3/9/21.

Docket Numbers: ER20-1734-001.

Applicants: Alabama Power Company.

Description: Compliance filing: Order No. 864 OATT Deficiency Response Filing to be effective N/A.

Filed Date: 2/16/21.

Accession Number: 20210216-5015.

Comments Due: 5 p.m. ET 3/9/21.

Docket Numbers: ER20-1735-001.

Applicants: Alabama Power Company.

Description: Compliance filing: Order No. 864 TFCAT & Related Gulf TFCAT Service Agreements Deficiency Response to be effective N/A.

Filed Date: 2/16/21.

Accession Number: 20210216-5016.

Comments Due: 5 p.m. ET 3/9/21.

Docket Numbers: ER21-1139-000.

Applicants: Southwestern Electric Power Company.

Description: § 205(d) Rate Filing: SWEPCO-ETEC Deep East Loop Contracting Services Agreement—Amended to be effective 2/1/2021.

Filed Date: 2/16/21.

Accession Number: 20210216-5011.

Comments Due: 5 p.m. ET 3/9/21.

Docket Numbers: ER21-1140-000.

Applicants: Public Service Company of Colorado.

Description: § 205(d) Rate Filing: 2021-02-xx Western EIM Energy Imbalance Subentity Agrmt-0.0.0 to be effective 1/20/2021.

Filed Date: 2/16/21.

Accession Number: 20210216-5014.

Comments Due: 5 p.m. ET 3/9/21.

Docket Numbers: ER21-1141-000.

Applicants: Hog Creek Wind Project, LLC.

Description: § 205(d) Rate Filing: Reactive Power Compensation Filing to be effective 2/17/2021.

Filed Date: 2/16/21.

Accession Number: 20210216-5019.

Comments Due: 5 p.m. ET 3/9/21.

Docket Numbers: ER21-1142-000.

Applicants: NedPower Mount Storm, LLC.

Description: Request for Limited Waiver and Expedited Consideration of NedPower Mount Storm LLC.

Filed Date: 2/12/21.

Accession Number: 20210212-5265.

Comments Due: 5 p.m. ET 3/5/21.

Docket Numbers: ER21-1143-000.

Applicants: Midcontinent Independent System Operator, Inc.

Description: § 205(d) Rate Filing: 2021-02-16_SA 3164 LA3 West Baton Rouge-Entergy Louisiana 1st Rev GIA (J683) to be effective 2/9/2021.

Filed Date: 2/16/21.

Accession Number: 20210216-5044.

Comments Due: 5 p.m. ET 3/9/21.

Docket Numbers: ER21-1144-000.

Applicants: Midcontinent Independent System Operator, Inc.

Description: § 205(d) Rate Filing: 2021-02-16_SA 3181 Glaciers Edge-MidAmerican 2nd Rev GIA (J506) to be effective 2/9/2021.

Filed Date: 2/16/21.

Accession Number: 20210216-5053.

Comments Due: 5 p.m. ET 3/9/21.

Docket Numbers: ER21-1145-000.

Applicants: Midcontinent Independent System Operator, Inc.

Description: § 205(d) Rate Filing: 2021-02-16_SA 3365 METC-Calhoun Solar Energy 1st Rev GIA (J758) to be effective 2/3/2021.

Filed Date: 2/16/21.

Accession Number: 20210216-5073.

Comments Due: 5 p.m. ET 3/9/21.

Docket Numbers: ER21-1147-000.

Applicants: Public Service Company of New Hampshire.

Description: § 205(d) Rate Filing: Engineering, Design, and Procurement Agreement with NECEC Transmission LLC to be effective 2/16/2021.

Filed Date: 2/16/21.

Accession Number: 20210216-5162.

Comments Due: 5 p.m. ET 3/9/21.

Docket Numbers: ER21-1148-000.

Applicants: NorthWestern Corporation.

Description: § 205(d) Rate Filing: Ministerial Filing to Synchronize Tariff Changes Accepted in Overlapping Dockets to be effective 1/25/2021.

Filed Date: 2/16/21.

Accession Number: 20210216-5171.

Comments Due: 5 p.m. ET 3/9/21.

Docket Numbers: ER21-1149-000.

Applicants: Mobile Energy, LLC.

Description: § 205(d) Rate Filing: Clean-Up Revisions to Market-Based Rate Tariff and Request for Waiver to be effective 2/17/2021.

Filed Date: 2/16/21.

Accession Number: 20210216-5173.

Comments Due: 5 p.m. ET 3/9/21.

Docket Numbers: ER21-1150-000.

Applicants: Midcontinent Independent System Operator, Inc.

Description: § 205(d) Rate Filing: 2020-02-16_Q1 Clean Up Filing to be effective 6/12/2020.

Filed Date: 2/16/21.

Accession Number: 20210216-5185.

Comments Due: 5 p.m. ET 3/9/21.

Docket Numbers: ER21-1151-000.

Applicants: Public Service Company of New Hampshire.

Description: § 205(d) Rate Filing: Related Facilities Agreement with NECEC Transmission LLC to be effective 2/16/2021.

Filed Date: 2/16/21.

Accession Number: 20210216-5186.

Comments Due: 5 p.m. ET 3/9/21.

Docket Numbers: ER21-1152-000.

Applicants: Midcontinent Independent System Operator, Inc.

Description: § 205(d) Rate Filing: 2021-02-16_SA 2985 MidAmerican-MidAmerican 2nd Rev GIA (J499) to be effective 2/3/2021.

Filed Date: 2/16/21.

Accession Number: 20210216-5189.

Comments Due: 5 p.m. ET 3/9/21.

Docket Numbers: ER21-1153-000.

Applicants: PJM Interconnection, L.L.C.

Description: § 205(d) Rate Filing: Amendment to ISA, SA No. 3459; Queue X2-076 (amend) to be effective 11/27/2012.

Filed Date: 2/16/21.

Accession Number: 20210216-5196.

Comments Due: 5 p.m. ET 3/9/21.

Docket Numbers: ER21-1154-000.

Applicants: ISO New England Inc., Fitchburg Gas and Electric Light Company.

Description: Compliance filing: Fitchburg Gas & Electric Co. Docket ER20-2575 Supplemental Order 864 Comp Filing to be effective 1/1/2020.

Filed Date: 2/16/21.

Accession Number: 20210216-5206.

Comments Due: 5 p.m. ET 3/9/21.

Docket Numbers: ER21-1155-000.

Applicants: Southwest Power Pool, Inc.

Description: § 205(d) Rate Filing: Revisions to Modify Section 2.11.1 of Attachment AE to be effective 4/18/2021.

Filed Date: 2/16/21.

Accession Number: 20210216-5216.

Comments Due: 5 p.m. ET 3/9/21.

Docket Numbers: ER21-1156-000.

Applicants: PJM Interconnection, L.L.C.

Description: Tariff Cancellation: Notice of Cancellation of WMPA, SA No. 5415; Queue No. AD2-215 re: withdrawal to be effective 3/15/2021.

Filed Date: 2/16/21.

Accession Number: 20210216-5236.

Comments Due: 5 p.m. ET 3/9/21.

Docket Numbers: ER21-1157-000.

Applicants: PJM Interconnection, L.L.C.

Description: § 205(d) Rate Filing: Original ISA, SA No. 5958; Queue No. AC1-074 to be effective 1/19/2021.

Filed Date: 2/16/21.

Accession Number: 20210216-5243.

Comments Due: 5 p.m. ET 3/9/21.

Take notice that the Commission received the following electric securities filings:

Docket Numbers: ES21-31-000.

Applicants: Transource Oklahoma, LLC.

Description: Application under Section 204 of the Federal Power Act for Authorization to Issue Securities for Transource Oklahoma, LLC.

Filed Date: 2/16/21.

Accession Number: 20210216-5227.

Comments Due: 5 p.m. ET 3/9/21.

Take notice that the Commission received the following PURPA 210(m)(3) filings:

Docket Numbers: QM21-3-000.

Applicants: Montana-Dakota Utilities Company.

Description: Application of Montana-Dakota Utilities Company to Terminate Mandatory Purchase Obligation under the Public Utility Regulatory Policies Act of 1978.

Filed Date: 2/16/21.

Accession Number: 20210216-5226.

Comments Due: 5 p.m. ET 3/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2021.
Nathaniel J. Davis, Sr.,
Deputy Secretary.

[FR Doc. 2021-03496 Filed 2-19-21; 8:45 am]

BILLING CODE 6717-01-P